NATIONAL AERONAUTICS AND SPACE ADMINISTRATION

Centennial Challenges 2009 Astronaut Glove Challenge

AGENCY: National Aeronautics and Space Administration (NASA).

Notice: (09-086).

ACTION: Notice.

SUMMARY: This notice is issued in accordance with 42 U.S.C. 2459f-1 (d). The 2009 Astronaut Glove Challenge is now scheduled, and teams that wish to compete may now register. The NASA Centennial Challenges Program is a program of prize contests to stimulate innovation and competition in technologies of interest and value to NASA and the nation. The 2009 Astronaut Glove Challenge is a prize contest designed to promote the development of glove materials and joint technology, resulting in a highly dexterous and flexible glove that can be used by astronauts over long periods of time for space or planetary surface excursions.

The 2009 Astronaut Glove Challenge is being administered by Volanz Aerospace Inc. for NASA. The $400,000USD prize purse is funded by NASA. This event will be conducted in a format which brings all competitors to a single location for a “head to head” competition.

DATES: The 2009 Astronaut Glove Challenge will be held on November 18-19, 2009.

Location: The 2009 Astronaut Glove Challenge will be held at United States Astronaut Hall of Fame in Kennedy Space Center, Florida (near the Kennedy Space Center Visitors Center). For more information regarding the location, please see www.kennedyspacecenter.com/astronaut-hall-of-fame.aspx.

Further Information: To register for and get additional information regarding the 2009 Astronaut Glove Challenge including Rules, Team Agreement, eligibility, and prize criteria, visit: www.astronaut-glove.us, or contact Mr. Alan Hayes at Volanz Aerospace Inc., 1209 Sheridan Drive, Owings, MD 20736-3131. Phone: 301-812-0450 or e-mail: ahayes@juno.com.

If you have questions or comments regarding the NASA Centennial Challenges Program, please visit: www.ipp.nasa.gov/cc or contact Mr. Andrew Petro, Innovative Partnerships Program Office, NASA Headquarters, 300 E Street, SW., Washington, DC 20546-0001. E-mail: andrew.j.petro@nasa.gov.

SUPPLEMENTARY INFORMATION: The 2009 Astronaut Glove Challenge prizes will go to the team(s) that can design and manufacture a glove that successfully completes each of the competition tests and best-performs within these specified parameters. The First place, Second place, and Best Thermal Micrometeoroid Garment prizes are $250,000, $100,000, and $50,000, respectively.

In case of individuals, prizes can only be awarded to U.S. Citizens or permanent residents. In the case of corporations or other entities, prizes can only be awarded to those that are incorporated in and maintain a primary place of business in the United States.

Dated: September 24, 2009.
Douglas A. Comstock,
Director, Innovative Partnerships Program.

[FR Doc. E9-23490 Filed 9-29-09; 8:45 am]

BILLING CODE P